DEPARTMENT OF HOUSING AND URBAN DEVELOPMENT

[Docket No. FR-4564-N-04]

Notice of Proposed Information Collection: Healthy Homes Initiative

AGENCY: Office of Lead Hazard Control

ACTION: Notice.

SUMMARY: The proposed information collection requirement described below will be submitted to the Office of Management and Budget (OMB) for review, as required by the Paperwork Reduction Act. The Department is soliciting public comments on the subject proposal.

DATES: Comments Due Date: August 18, 2000.

ADDRESSES: Interested persons are invited to submit comments regarding this proposal. Comments should refer to the proposal by name and/or OMB Control Number and should be sent to: Ms. Gail Ward, Reports Liaison Officer, Department of Housing and Urban Development, 451 7th St., SW, Room P3206, Washington, DC 20410.

FOR FURTHER INFORMATION CONTACT: Ellen R. Taylor (202) 755-1785 ext. 116 (this is not a toll free number), for copies of the proposed forms and other available documents.

SUPPLEMENTARY INFORMATION: The Department will submit the proposed information collection to OMB for review, as required by the Paperwork Reduction Act of 1995 (44 U.S.C. Chapter 35, as amended).

The Notice is soliciting comments from members of the public and affected agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This Notice also lists the following information:

Title of Proposal: Healthy Homes Initiative.

OMB Control Number: To be assigned.

Need For the Information and Proposed Use: This information collection is required in connection with the management of grants or cooperative agreements related to evaluation and control of housing based hazards, funded by HUD as part of the Healthy Homes Initiative. Healthy Homes is authorized by the Housing Development Act of 1970. To date, seven programs have received FY 1999 funding totaling $8.5 million. HUD anticipates that this level of grant activity will continue in FY 2000 and succeeding years.

Results from these grants or cooperative agreements will be used to provide protocols, materials and information to other Healthy Homes programs. It is anticipated that this will increase the effectiveness of residential hazard reduction interventions, while improving the cost-effectiveness of the entire process. This activity should contribute to reducing housing based hazards and improving the health and safety of children and their families.

Agency Form Numbers: None.

Members of Affected Public: Potential applicants and grantees include non-profit and for-profit organizations, academic institutions, and state and local governments.

Total Burden Estimate:

| Number of respondents | Frequency of responses | Hours per response | Burden hours
Grantees | 7 | 3 | 2 | 63
Future Grantees | 14 | 3 | 2 | 126
Applicants | 18 | 1 | 2 | 36
Total Estimated Burden Hours: |  |  |  | 25

Status of the Proposed Information Collection: New Collection.

Authority: Section 3506 of the Paperwork Reduction Act of 1995, 44 U.S.C. Chapter 35, as amended.

Dated: June 8, 2000.
David E. Jacobs,
Director, Office of Lead Hazard Control.

[FR Doc. 00-15344 Filed 6-16-00; 8:45 am]

BILLING CODE 4210-01-M